FEDERAL MARITIME COMMISSION

Sunshine Act Meeting

Federal Register Citation of Previous Announcement: 69 FR 361.

Previously Announced Time and Date of the Meeting: 10 a.m., January 21, 2004.

Changes:

1. The addition of an Open Session of the Meeting to begin at 2 p.m.

2. The consideration of Item 1 in the Open Session of the Meeting: Item 1. Petition No. P10-03—Petition of National Custom Brokers and Forwarders Association of America, Inc. for Rulemaking.

3. The addition of Item 5 to the Closed Session of the Meeting: Item 5. Petition No. P3-02—Petition of the Association of Bi-State Motor Carriers, Inc. To Investigate Truck Detention Practices of the New York Terminal Conference at the New York/New Jersey Port District.

FOR FURTHER INFORMATION CONTACT: Bryant L. VanBrakle, Secretary, (202) 523-5725.

Bryant L. Van Brakle,
Secretary.

[FR Doc. 04-1138 Filed 1-14-04; 1:43 pm]

BILLING CODE 6730-01-M